DEPARTMENT OF HEALTH AND HUMAN SERVICES

Centers for Disease Control and Prevention

[30 Day-17-1083]

Agency Forms Undergoing Paperwork Reduction Act Review

In accordance with the Paperwork Reduction Act of 1995, the Centers for Disease Control and Prevention (CDC) has submitted the information collection request titled National Notifiable Diseases Surveillance System to the Office of Management and Budget (OMB) for review and approval. CDC previously published a “Proposed Data Collection Submitted for Public Comment and Recommendations” notice on December 22, 2016 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Evaluation of the National Tobacco Prevention and Control Public Education Campaign (OMB Control Number 0920-1083, Expiration 09/30/2017)—Revision—National Center for Chronic Disease Prevention and Health Promotion (NCCDPHP), Centers for Disease Control and Prevention (CDC).

Background and Brief Description

In 2012, HHS/CDC launched Phase 1 of the National Tobacco Prevention and Control Public Education Campaign (The Campaign). The primary objectives of The Campaign are to encourage smokers to quit smoking and to encourage nonsmokers to communicate with smokers about the dangers of smoking. To evaluate “The Campaign,” CDC obtained OMB approval for information collections beginning in 2012 (OMB Control Number 0920-0923). CDC conducted baseline and follow-up surveys with both smokers and nonsmokers.

In 2013, CDC launched Phase 2 of “The Campaign” and conducted an additional survey with smokers and one additional survey with nonsmokers under OMB Control Number 0920-0923.

CDC recently completed collecting the information needed to evaluate Phase 3 of “The Campaign,” which launched in early 2014. The evaluation of The Campaign in 2014 consisted of a longitudinal cohort using four waves of online surveys involving smokers and three waves involving nonsmokers to assess their awareness of and reactions to the 2014 advertisements as related to The Campaign's objectives (see previously-approved information collection with OMB Control Number 0920-0923, expired 3/31/2017).

The final wave of this data collection effort also served as a pre-campaign baseline for Phase 4 of the campaign in 2015. The CDC subsequently aired Phase 5 of the campaign in 2016. To evaluate Phases 4 and 5, CDC fielded four additional waves of survey data collection. CDC fielded these data collections from September to November in 2015 and March to June, June to August, and November to December of 2016 (see previously approved information collection under OMB Control Number 0920-1083, expires 9/30/2017).

CDC has scheduled to launch new media activities for Phases 6 and 7 of “The Campaign” in early 2017 and early 2018, respectively. To support evaluation of “The Campaign” through Phases 6 and 7, CDC plans to field five new waves of information collection. CDC will field the surveys in English and Spanish and will occur during 2017 and 2018. Once enrolled in the first wave of data collection, researchers will re-contact all participants for follow-up at subsequent survey waves.

The sample for the data collection will originate from two sources: (1) An online longitudinal cohort of smokers and nonsmokers, sampled randomly from postal mailing addresses in the United States (address-based sample, or ABS); and (2) the existing GfK KnowledgePanel, an established long-term online panel of U.S. adults. The ABS-sourced longitudinal cohort will consist of smokers and nonsmokers who have not previously participated in any established online panels to reduce potential panel conditioning bias from previous participation. GfK will recruit the new cohort, utilizing similar recruitment methods that are used in the recruitment of KnowledgePanel. To support larger sample sizes that will allow for more in-depth subgroup analysis, which is a key objective for CDC, researchers will use the GfK KnowledgePanel in combination with the new ABS-sourced cohort. Researchers will conduct all online surveys, regardless of sample source, via the GfK KnowledgePanel Web portal for self-administered surveys.

Researchers will collect information through Web surveys (self-administered on computers in the respondent's home or in another convenient location). Researchers will collect information about smokers' and nonsmokers' awareness of and exposure to specific campaign advertisements; knowledge, attitudes, beliefs related to smoking and secondhand smoke; and other marketing exposure. The surveys will also measure behaviors related to smoking cessation (among the smokers in the sample) and behaviors related to nonsmokers' encouragement of smokers to quit smoking, recommendations of cessation services, and attitudes about other tobacco and nicotine products.

It is important to evaluate “The Campaign” in a context that assesses the dynamic nature of tobacco product marketing and uptake of various tobacco products, particularly since these may affect successful cessation rates. Survey instruments may be updated to include new or revised items on relevant topics, including cigars, noncombustible tobacco products, and other emerging trends in tobacco use.

Participation is voluntary and there are no costs to respondents other than their time. CDC estimates the total response burden at 37,170 hours over two years between August 2017 and February 2019. Thus, CDC estimates the total annualized burden hours at 18,585 for the combined English and Spanish versions of each survey.

Estimated Annualized Burden Hours
(Type of) respondents | Form name | Number of respondents | Number of responses per respondent | Average burden per response (in hours)
General Population | Screening & Consent Questionnaire (English) | 23,750 | 1 | 5/60
| Screening & Consent Questionnaire (Spanish) | 1,250 | 1 | 5/60
Adults Smokers and Nonsmokers, ages 18-54, in the United States | Smoker Survey (Wave A) (English) | 6,175 | 1 | 30/60
| Smoker Survey (Wave A) (Spanish) | 325 | 1 | 30/60
| Smoker Survey (Wave B) (English) | 3,800 | 1 | 30/60
| Smoker Survey (Wave B) (Spanish) | 200 | 1 | 30/60
| Smoker Survey (Wave C) (English) | 3,800 | 1 | 30/60
| Smoker Survey (Wave C) (Spanish) | 200 | 1 | 30/60
| Smoker Survey (Wave D) (English) | 3,800 | 1 | 30/60
| Smoker Survey (Wave D) (Spanish) | 200 | 1 | 30/60
| Smoker Survey (Wave E) (English) | 3,800 | 1 | 30/60
| Smoker Survey (Wave E) (Spanish) | 200 | 1 | 30/60
| Nonsmoker Survey (Wave A) (English) | 2,375 | 1 | 30/60
| Nonsmoker Survey (Wave A) (Spanish) | 125 | 1 | 30/60
| Nonsmoker Survey (Wave B) (English) | 1,900 | 1 | 30/60
| Nonsmoker Survey (Wave B) (Spanish) | 100 | 1 | 30/60
| Nonsmoker Survey (Wave C) (English) | 1,900 | 1 | 30/60
| Nonsmoker Survey (Wave C) (Spanish) | 100 | 1 | 30/60
| Nonsmoker Survey (Wave D) (English) | 1,900 | 1 | 30/60
| Nonsmoker Survey (Wave D) (Spanish) | 100 | 1 | 30/60
| Nonsmoker Survey (Wave E) (English) | 1,900 | 1 | 30/60
| Nonsmoker Survey (Wave E) (Spanish) | 100 | 1 | 30/60

Leroy A. Richardson,
Chief, Information Collection Review Office, Office of Scientific Integrity, Office of the Associate Director for Science, Office of the Director, Centers for Disease Control and Prevention.

[FR Doc. 2017-21122 Filed 10-2-17; 8:45 am]

BILLING CODE 4163-18-P